ENVIRONMENTAL PROTECTION AGENCY

[FRL-7668-5]

Science Advisory Board Staff Office; Notification of Upcoming Meeting of the Science Advisory Board Committee on Valuing the Protection of Ecological Systems and Services

AGENCY: Environmental Protection Agency (EPA).

ACTION: Notice.

SUMMARY: The Environmental Protection Agency, Science Advisory Board (SAB) Staff Office is announcing a public meeting of the SAB's Committee on Valuing the Protection of Ecological Systems and Services (C-VPESS).

DATES: June 13-14, 2004.

ADDRESSES: The meeting will be held at the Science Advisory Board Conference Center located at 1025 F Street, NW., Suite 3705, Washington, DC 20004.

FOR FURTHER INFORMATION CONTACT: Any member of the public wishing further information regarding this meeting may contact Dr. Angela Nugent, Designated Federal Officer (DFO), via telephone/voice mail at: (202) 343-9981, via e-mail at: nugent.angela@epa.gov, or by mail at U.S. EPA SAB (MC 1400F), 1200 Pennsylvania Ave. NW., Washington, DC 20460. General information about the SAB can be found in the SAB Web site at: http://www.epa.gov/sab.

SUPPLEMENTARY INFORMATION: Background on the Committee and its charge was provided in 68 FR 11082 (March 7, 2003). The purpose of the meeting is for the Committee to hold planning sessions, panel discussions, briefings, and work in break-out groups focusing on examples of benefit analysis supporting EPA regulations. All of these activities are related to the Committee's overall charge, to assess Agency needs and the state of the art and science of valuing protection of ecological systems and services, and then to identify key areas for improving knowledge, methodologies, practice, and research.

Availability of Meeting Materials: An agenda for the meeting will be posted on the SAB Web site at: http://www.epa.gov/sab, prior to the meeting. Other meeting materials will be available at the meeting, and may be requested from the DFO for those persons who can not attend the meeting.

Procedures for Providing Public Comments. It is the policy of the SAB Staff Office to accept written public comments of any length, and to accommodate oral public comments whenever possible. The SAB expects that public statements presented at the meeting will not be repetitive of previously submitted oral or written statements. Oral Comments: In general, each individual or group requesting an oral presentation at a face-to-face meeting will be limited to a total time of ten minutes (unless otherwise indicated). Interested parties should contact the DFO in writing (e-mail, fax or mail—see contact information noted above) by close of business June 4, 2004 in order to be placed on the public speaker list for the meeting. Speakers should bring at least 35 copies of their comments and presentation slides for distribution to the participants and public at the meeting. Written Comments: Although written comments are accepted until the date of the meeting, written comments should be received in the SAB Staff Office at least one week prior to the meeting date so that the comments may be made available to the panel for their consideration. Comments should be supplied to the DFO via the contact information noted above in the following formats: one hard copy with original signature, and one electronic copy via e-mail (acceptable file format: Adobe Acrobat, WordPerfect, Word, or Rich Text files (in IBM-PC/Windows 95/98 format). Those providing written comments and who attend the meeting are also asked to bring 35 copies of their comments for public distribution.

Meeting Accommodations: Individuals requiring special accommodation to access this meeting, should contact the DFO at least five business days prior to the meeting so that appropriate arrangements can be made.

Dated: May 21, 2004.
Vanessa T. Vu,
Director, EPA Science Advisory Board Staff Office.

[FR Doc. 04-12306 Filed 5-28-04; 8:45 am]

BILLING CODE 6560-50-P